DEPARTMENT OF HEALTH AND HUMAN SERVICES

Program Support Center; Statement of Organization, Functions and Delegations of Authority

Part P (Program Support Center) of the Statement of Organization, Functions and Delegations of Authority for the Department of Health and Human Services (60 FR 51480, October 2, 1995 as last amended at 65 FR 58999, October 3, 2000) is being amended to establish the Information Resources Management Service (IRMS) within the Program Support Center (PSC). The IRMS will be headed by a Director who will report to the Director, Program Support Center.

The changes are as follows:

Program Support Center

Under Part P, Section P-10, Organization, add the following line: 5. Information Resources Management Service.

Under Section P-20, Functions, change the following:

Under Chapter PB, Human Resources Service (PB) delete the title and functional statement for the Office of Systems Management (PBU) in its entirety. The staff and functions of this office will be realigned within the Information Resources Management Service, Systems Integrity and Quality Assurance Division (PHE). Delete the title and functional statement for the Office of Enterprise Human Resource and Payroll Systems (PBV) in its entirety. The staff and functions of this Office will be realigned within the Information Resources Management Service, Enterprise Applications Division (PHC).

Under Chapter PC, Financial Management Service, delete the title and functional statement for the Division of Information Systems and Technology (PCF) in its entirety. The staff and functions of this Division will be realigned within the Information Resources Management Service, Enterprise Applications Division (PHC).

Add Chapter PH to establish the “Information Resources Management Service (PH)” and enter the functional statement as follows:

Information Resources Management Service (PH)

(1) Serves as the focal point within the PSC for planning, organizing, coordinating, implementing and managing the activities required to maintain an agencywide information technology (IT) program in compliance with the Clinger-Cohen Act (CCA), Paperwork Reduction Act, HHS CIO guidance, and other related Federal guidance and best practices; (2) manages and directs the operation of the PSC's IT infrastructure, data communication networks, and enterprise infrastructure while executing production operations at the PSC and departmental levels; (3) institutes business process improvements that reduce cost and risk while enhancing benefits; (4) develops and coordinates technology program initiatives, ensuring secure interoperability among systems and reducing system redundancy; (5) provides systems integrity functions including such things as testing, quality assurance, security, risk assessment, and critical infrastructure; (6) uses emerging information technology to improve the productivity, effectiveness, and efficiency of PSC programs; (7) provides customer liaison services to resolve issues and improve customer service; and (8) monitors and evaluates the performance of information resource investments through a capital planning and investment control process including budget and acquisition management.

Establish the Office of the Director (PHA) and enter the functional statement as follows:

Office of the Director (PHA)

(1) Provides leadership and overall management for information technology resources for which PSC has responsibility; (2) directs the development, implementation, and enforcement of the PSC's information technology architecture, policies, standards, and acquisitions in all areas of information technology; (3) oversees PSC's information systems security program; and (4) manages and directs the PSC's IT business technology functions including business planning, development, budgeting and fiscal planning for IRMS, establishing service level agreements, assessing customer satisfaction, assuring compliance with the Government Performance Results Act (GPRA) and overseeing capital planning and investment control (CPIC) for IT initiatives, monitoring awareness of emerging business technologies and implementing new financial systems initiatives.

Establish the Computer and Network Services Division (PHB) and enter the functional statement as follows:

Computer and Network Services Division (PHB)

(1) Designs, obtains, installs, and maintains all Local Area Network (LAN) capabilities within the PSC for application and office automation support; (2) provides all electronic mail and third party software support; (3) designs, obtains, installs, and maintains all communication and Wide Area Network (WAN) connectivity capabilities within the PSC; (4) establishes and maintains a help desk for desktop support; (5) provides all system administration functions; (6) schedules, operates, and maintains all production processes for PSC applications; (7) provides customer liaison services to resolve issues and improve customer service; (8) designs, obtains, installs, and maintains computer and network systems including hardware, software, and data communications required to support human resource, financial management, and administrative automated systems including office automation; (9) provides automated data processing management services for computer systems located in operational regional and local offices; and (10) supports the implementation of the PSC's information system security program, including documenting and reporting security breaches.

Establish the Enterprise Applications Division (PHC) and enter the functional statement as follows:

Enterprise Applications Division (PHC)

(1) Provides the full range of automated data processing support activities associated with the development and maintenance of information technology systems; (2) analyzes, designs, and implements system changes, enhancements, and new requirements; (3) provides customer liaison services to resolve issues and improve customer service; (4) administers PSC data resources including database administration; (5) provides and implements data mining activities that assist in technology or workforce decisionmaking as well as application and regulatory reporting; (6) develops detailed system and/or subsystem specifications, program specifications, program modules, files, databases, libraries, and documentation necessary to support system maintenance and development activities; (7) participates in the development of unit test criteria and test methodology necessary to conduct system/subsystem and program-level tests needed to ensure the integrity of information technology sytems; (8) implements enterprise resource planning (ERP) systems including, but not limited to, using commercial-off-the-shelf (COTS) packages; (9) develops and implements emerging technology projects which cross cut service business lines; (10) designs, develops, and maintains PSC Web applications and pages; and (11) supports the implementation of the PSC's information system security program, including documenting and reporting security breaches.

Establish the Systems Integrity and Quality Assurance Division (PHE) and enter the functional statement as follows:

Systems Integrity and Quality Assurance Division (PHE)

(1) Functions as the information technology liaison for audits executed within the PSC; (2) assists program managers in preparing/revising certification packages to acquire or retain approval to operate, i.e., certification and accreditation, through the PSC System Accreditation Board; (3) provides customer liaison services to resolve issues and improve customer service; (4) provides contingency planning and continuity of operations support for PSC systems, (5) oversees the implementation of configuration management services including automated systems designed to reduce errors and support parallel and concurrent development; (6) oversees software acceptance testing, quality assurance, Independent Verification and Validation (IV&V), and quality control functions for all new and legacy systems/subsystems including major enhancements and systems changes for PSC applications and infrastructure; (7) ensures the integrity of production environments; and (8) supports the implementation of PSC's information system security program, including documenting and reporting security breaches.

Delegations of Authority: All delegations and redelegations of authority made to officials and employees of affected organizational components will continue in them or their successors pending further redelegation, provided they are consistent with this reorganization.

Dated: June 5, 2001.
Curtis L. Coy,
Director, Program Support Center.

[FR Doc. 01-14591 Filed 6-8-01; 8:45 am]

BILLING CODE 4168-17-M